DEPARTMENT OF AGRICULTURE

Forest Service

Medicine Bow-Routt Resource Advisory Committee

AGENCY: Forest Service, USDA.

ACTION: Notice of meetings.

SUMMARY: The Medicine Bow-Routt Resource Advisory Committee (RAC) will meet in Walden, Colorado. The committee is authorized under the Secure Rural Schools and Community Self-Determination Act (Pub. L. 110-343) (the Act) and operates in compliance with the Federal Advisory Committee Act. The purpose of the committee is to improve collaborative relationships and to provide advice and recommendations to the Forest Service concerning projects and funding consistent with Title II of the Act. The meetings are open to the public. The purpose of the meetings is to review and recommend projects authorized under Title II of the Act and to update RAC members on the progress of previously approved projects.

DATES: The meetings will be held at 10:00 a.m. on the following dates:

• August 4, 2014

• August 5, 2014

• August 6, 2014

• August 7, 2014

All RAC meetings are subject to cancellation. For status of meeting prior to attendance, please contact the person listed under FOR FURTHER INFORMATION CONTACT.

ADDRESSES: The meetings will be held at the Parks Ranger District, 100 Main Street, Walden, Colorado.

Written comments may be submitted as described under SUPPLEMENTARY INFORMATION. All comments, including names and addresses when provided, are placed in the record and are available for public inspection and copying. The public may inspect comments received at the Medicine Bow-Routt National Forest Supervisor's Office. Please call ahead to facilitate entry into the building.

FOR FURTHER INFORMATION CONTACT: Aaron Voos, RAC Coordinator, by phone at 307-745-2323 or via email at atvoos@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: Additional RAC information, including the meeting agenda and the meeting summary/minutes can be found at the following Web site: http://www.fs.usda.gov/goto/mbr/advisorycommittees. The agenda will include time for people to make oral statements of three minutes or less. Individuals wishing to make an oral statement should request in writing by July 25, 2014 to be scheduled on the agenda. Anyone who would like to bring related matters to the attention of the committee may file written statements with the committee staff before or after the meeting. Written comments and requests for time for oral comments must be sent to Carolyn Upton, RAC Designated Federal Officer, 2468 Jackson Street, Laramie, Wyoming 82070; by email to cupton@fs.fed.us, or via facsimile to 307-745-2467.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: July 17, 2014.
Carolyn P. Upton,
Deputy Forest Supervisor, Medicine Bow-Routt NFs, Thunder Basin National Grassland.

[FR Doc. 2014-17417 Filed 7-23-14; 8:45 am]

BILLING CODE 3411-15-P